DEPARTMENT OF THE INTERIOR

Geological Survey

Biological Resources Division Request for Public Comments on Information Collection To Be Submitted to OMB for Review Under the Paperwork Reduction Act

The proposal for the information collection described below will be submitted to the Office of Management and Budget for approval under the provisions of the Paperwork Reduction Act (44 U.S.C. Chapter 35). Copies of the proposed collection of information may be obtained by contacting the Bureau's clearance officer at the phone number listed below. Comments and suggestions on the proposal should be made within 60 days directly to the Bureau clearance officer, U.S. Geological Survey, 807 National Center, 12201 Sunrise Valley Drive, Reston, Virginia, 20192, telephone (703) 648-7313.

As required by OMB regulations at 5 CFR 1320.8(d)(1), the U.S. Geological Survey solicits specific public comments as to:

1. Whether the collection of information is necessary for the proper performance of the functions on the bureaus, including whether the information will have practical utility;

2. the accuracy of the bureau's estimate of the burden of the collection of information, including the validity of the methodology and assumptions used:

3. the quality, utility, and clarity of the information to be collected; and

4. how to minimize the burden of the collection of information on those who are to respond, including the use of appropriate automated, electronic, mechanical, or other forms of information technology.

Title: North American Breeding Bird Survey.

Current OMB Approval Number: None.

SUMMARY: The North American Breeding Bird Survey (BBS) is a large-scale avian monitoring program used to track the status and trends of North American bird populations. The survey consists of over 4100 road-side routes of which approximately 2500 U.S. routes are sampled annually. Along each route participants record every bird seen or heard during 50, 3-min point counts. This information will be used by scientists and federal, state and local agencies to identify bird populations demonstrating significant declines in order to direct conservation and research efforts towards those populations before their numbers have reached critically low levels. For more information see the web site (www.mp2-pwrc.usgs.gov/bbs/).

Participants are provided with detailed survey instructions, a map of the route, a blank survey form, and a postage-paid reply envelope. Once the data are submitted, each participant is provided with a report summarizing the results from their route.

Estimated Annual Number of Respondents: 2500.

Estimated Annual Burden Hours: 12,500 hours.

Affected Public: Primarily U.S. residents.

FOR FURTHER INFORMATION CONTACT: To obtain copies of the survey, contact the Bureau clearance officer, U.S. Geological Survey, 807 National Center, 12201 Sunrise Valley Drive, Reston, Virginia, 20192, telephone (703) 648-7313.

Dated: December 5, 2000.
Dennis B. Fenn,
Chief Biologist.

[FR Doc. 00-31894 Filed 12-13-00; 8:45 am]

BILLING CODE 4310-Y7-M